DEPARTMENT OF HEALTH AND HUMAN SERVICES

National Institutes of Health

Center for Scientific Review; Amended Notice of Meeting

Notice is hereby given of a change in the meeting of the Center for Scientific Review Special Emphasis Panel, May 28, 2008, 8 a.m. to May 29, 2008, 5 p.m., Admiral Fell Inn, 888 South Broadway, Baltimore, MD, 21231 which was published in the Federal Register on April 4, 2008, 73 FR 18539-18542.

The meeting will be held May 29, 2008 to May 30, 2008. The meeting time and location remain the same. The meeting is closed to the public.

Dated: April 9, 2008.
Jennifer Spaeth,
Director, Office of Federal Advisory Committee Policy.

[FR Doc. E8-8071 Filed 4-15-08; 8:45 am]

BILLING CODE 4140-01-M